FEDERAL HOUSING FINANCE AGENCY

[No. 2009-N-12]

Proposed Collection; Comment Request

AGENCY: Federal Housing Finance Agency.

ACTION: 60-day notice of submission of information collection for approval from the Office of Management and Budget.

SUMMARY: In accordance with the requirements of the Paperwork Reduction Act of 1995, the Federal Housing Finance Agency (FHFA) is seeking public comments concerning a currently approved information collection known as “Affordable Housing Program (AHP),” which has been assigned control number 2590-0007 by the Office of Management and Budget (OMB). The FHFA intends to submit the information collection to OMB for review and approval of a three year extension of the control number, which is due to expire on December 31, 2009.

DATES: Interested persons may submit comments on or before November 30, 2009.

Comments: Submit comments to the FHFA using any of the following methods:

• E-mail: regcomments@fhfa.gov. Please include Proposed Collection; Comment Request: “Affordable Housing Program (AHP),” (No. 2009-N-12) in the subject line of the message.

• Mail/Hand Delivery: Federal Housing Finance Agency, Fourth Floor, 1700 G Street, NW., Washington, DC 20552, Attention: Public Comments/Proposed Collection; Comment Request: “Affordable Housing Program (AHP),” (No. 2009-N-12).

• Federal eRulemaking Portal: http://www.regulations.gov. Follow the instructions for submitting comments. If you submit your comment to the Federal eRulemaking Portal, please also send it by e-mail to FHFA at regcomments@fhfa.gov to ensure timely receipt by the agency.

We will post all public comments we receive without change, including any personal information you provide, such as your name and address, on the FHFA website at http://www.fhfa.gov. In addition, copies of all comments received will be available for examination by the public on business days between the hours of 10 a.m. and 3 p.m., at the Federal Housing Finance Agency, Fourth Floor, 1700 G Street, NW., Washington, DC 20552. To make an appointment to inspect comments, please call the Office of General Counsel at 202-414-6924.

FOR FURTHER INFORMATION CONTACT: Charles E. McLean, Acting Manager, Division of Housing Mission and Goals, Charles.Mclean@fhfa.gov, 202-408-2537 or Deattra D. Perkins, Community Development Specialist, Division of Housing Mission and Goals, Deattra.Perkins@fhfa.gov, 202-408-2527 (not toll-free numbers). The telephone number for the telecommunications device for the deaf is 800-877-8339.

SUPPLEMENTARY INFORMATION:

A. Background

Section 10(j) of the Federal Home Loan Bank Act (Bank Act) requires each Bank to establish an affordable housing program, the purpose of which is to enable a Bank's members to finance homeownership by households with incomes at or below 80% of the area median income (low- or moderate- income households), and to finance the purchase, construction, or rehabilitation of rental projects in which at least 20% of the units will be occupied by and affordable for households earning 50% or less of the area median income (very low-income households). See 12 U.S.C. 1430(j)(1) and (2). The Bank Act requires each Bank to contribute 10% of its previous year's net earnings to its AHP annually, subject to a minimum annual combined contribution by the 12 Banks of $100 million. See 12 U.S.C. 1430(j)(5)(C).

The AHP regulation authorizes a Bank, in its discretion, to set aside a portion of its annual required AHP contribution to establish homeownership set-aside programs for the purpose of promoting homeownership for low- or moderate- income households. See 12 CFR 1291.6. Under the homeownership set-aside programs, a Bank may provide AHP direct subsidy (grants) to members to pay for down payment assistance, closing costs, and counseling costs in connection with a household's purchase of its primary residence, and for rehabilitation assistance in connection with a household's rehabilitation of an owner-occupied residence. See 12 CFR 1291.6(c)(4). Currently, a Bank may allocate up to the greater of $4.5 million or 35% of its annual required AHP contribution to homeownership set-aside programs in that year.

B. Need for and Use of the Information Collection

The Banks use AHP data collection to determine whether an AHP applicant satisfies the statutory and regulatory requirements to receive AHP subsidies. FHFA's use of the information is necessary to enable and to ensure that Bank funding decisions, and the use of the funds awarded, are consistent with statutory and regulatory requirements. The AHP information collection is found in the Data Reporting Manual (DRM). See Resolution Number 2006-13 (available electronically in the FOIA Reading Room: http://www.fhfa.gov/Default.aspx?Page=256&ListYear=2006&ListCategory=9#9|2006).

The OMB number for the information collection is 2590-0007. The OMB clearance for the information collection expires on December 31, 2009. The likely respondents are institutions that are Bank members.

C. Burden Estimate

The FHFA analyzed the cost and hour burden for the seven facets of the AHP information collection—AHP applications, AHP modification requests, AHP monitoring agreements, AHP recapture agreements, homeownership set-aside program applications, verifications of statutory and regulatory compliance at the time of subsidy disbursement, and Bank Advisory Council reports and recommendations on AHP implementation plans. As explained in more detail below, the estimate for the total annual hour burden for applicant and member respondents for all seven facets of the AHP information collection is 76,214 hours.

1. AHP Applications

The FHFA estimates a total annual average of 2,050 applications for AHP funding, with 1 response per applicant, and a 24 hour average processing time for each application. The estimate for the total annual hour burden for AHP applications is 49,200 hours (2,050 applicants × 1 application × 24 hours).

2. AHP Modification Requests

The FHFA estimates a total annual average of 150 modification requests, with 1 response per requestor, and a 2.5 hour average processing time for each request. The estimate for the total annual hour burden for AHP modification requests is 375 hours (150 requestors × 1 request × 2.5 hours).

3. AHP Monitoring Agreements

The FHFA estimates a total annual average of 825 AHP monitoring agreements, with 1 agreement per respondent. The estimate for the average hours to implement each AHP monitoring agreement and prepare and review required reports and certifications is 4.75 hours. The estimate for the total annual hour burden for AHP monitoring agreements is 3,919 hours (825 respondents × 1 agreement × 4.75 hours).

4. AHP Recapture Agreements

The FHFA estimates a total annual average of 360 AHP recapture agreements, with 1 agreement per respondent. The estimate for the average hours to prepare and implement an AHP recapture agreement is 2 hours. The estimate for the total annual hour burden for AHP recapture agreements is 720 hours (360 respondents × 1 agreement × 2 hours).

5. Homeownership Set-Aside Program Applications

The FHFA estimates a total annual average of 10,000 homeownership set-aside program applications, with 1 application per respondent, and a 2 hour average processing time for each application. The estimate for the total annual hour burden for homeownership set-aside program applications is 20,000 hours (10,000 respondents × 1 application × 2 hours).

6. Verification of Statutory and Regulatory Compliance Submissions

The FHFA estimates a total annual average of 2,000 submissions to verify compliance with statutory and regulatory requirements with 1 submission per respondent. The estimate for the average hours to review database records for completeness and accuracy prior to submission and validation is 1 hour. The estimate for the total annual hour burden for verification of compliance submissions is 2,000 hours (2,000 respondents × 1 submission × 1 hour).

7. Bank Advisory Council Reports and Recommendations on AHP Implementation Plan

Member and applicant respondents incur no costs because the Bank Advisory Councils prepare and the Banks and FHFA review Advisory Council reports and recommendations.

D. Comment Request

Written comments are requested on: (1) Whether the collection of information is necessary for the proper performance of FHFA functions, including whether the information has practical utility; (2) The accuracy of the FHFA's estimates of the burdens of the collection of information; (3) Ways to enhance the quality, utility and clarity of the information collected; and (4) Ways to minimize the burden of the collection of information on applicants and housing associates, including through the use of automated collection techniques or other forms of information technology. Comments may be submitted in writing at the address listed above.

Dated: September 24, 2009.
Edward J. DeMarco,
Acting Director, Federal Housing Finance Agency.

[FR Doc. E9-23575 Filed 9-29-09; 8:45 am]

BILLING CODE 8070-01-P